DEPARTMENT OF TRANSPORTATION

Federal Motor Carrier Safety Administration

Office of Research and Technology Forum

AGENCY: Federal Motor Carrier Safety Administration (FMCSA), DOT.

ACTION: Notice of meeting/forum.

SUMMARY: This notice invites interested persons to participate in a forum sponsored by the FMCSA Office of Research and Technology in conjunction with the 83rd Annual Meeting of the Transportation Research Board. The purpose of the forum is to provide insights into building public-private partnerships that involve government, academia and industry through panel discussions and presentations highlighting such collaborations. On Panel I, attendees will learn about some recently completed and current research being managed by FMCSA staff in the areas of the Commercial Vehicle Information Systems & Networks, electronic on-board recorders, crash causation, CMV medical qualifications and testing, and the National Commercial Vehicle Roadside Testing Lab. On Panel II, industry representatives will present firsthand accounts of how their organizations have worked with FMCSA to develop and promote research and technology designed to achieve mutual commercial motor vehicle safety goals and objectives. Time will be allotted for questions and answers following each panel, and dialogue between attendees and presenters is encouraged.

Where and When: Marriott Wardman Park Hotel, the Delaware Room, 2660 Woodley Road, NW., Washington, DC 20008, on Sunday, January 11, 2004, from 8 a.m. to 1 p.m.

Registration: This forum is listed as a session in the TRB Annual Meeting Program and all registrants are welcome to attend. TRB registration is not required to attend the forum and it is open to the public at no cost. To register for the TRB Annual Meeting, visit www.trb.org. To attend the forum only, send an e-mail to: R&TPartnerships@fmcsa.dot.gov.

FOR FURTHER INFORMATION CONTACT: Mr. Albert Alvarez, Office of Research and Technology (MC-RTR), Federal Motor Carrier Safety Administration, 400 Virginia Avenue, SW., Washington, DC 20024; telephone (202) 385-2387 or e-mail albert.alvarez@fmcsa.dot.gov. Or, contact Mike Lange in the same office at (202) 385-2373 or e-mail michael.lang@fmcsa.dot.gov. Office hours are from 8 a.m. to 4:30 p.m., E.S.T., Monday through Friday, except Federal holidays.

SUPPLEMENTARY INFORMATION: Forum attendees will receive an Information Packet on current programs the Office of Research and Technology is working on. While the forum will be open to the public, it will be limited to the space available. Individuals requiring special needs/accommodations (sign, reader, etc.), please call Joanice Cole at (202) 334-2287, or e-mail jcole@nas.edu.

Issued on: November 20, 2003.
Annette M. Sandberg,
Administration.

[FR Doc. 03-29851 Filed 11-28-03; 8:45 am]

BILLING CODE 4910-EX-P